DEPARTMENT OF AGRICULTURE

Forest Service

Notice of New Fee Site; Federal Lands Recreation Enhancement Act, (Title VIII, Pub. L. 108-447)

AGENCY: Tongass National Forest, USDA Forest Service, Agriculture.

ACTION: Notice of new fee site.

SUMMARY: The Tongass National Forest proposes to begin charging a $5/day, $10/three-day, $20/week, and $75/season fee for entering the Fish Creek Wildlife Observation Site (Fish Creek) near Hyder, Alaska. There is strong public support and appreciation for the experience provided at Fish Creek. Funds from the fees will be used for providing safety improvements for the public and protection for the wildlife as well as interpretive and visitor comfort services.

DATES: Fish Creek will begin charging a fee on July 1, 2006.

ADDRESSES: Forest Supervisor, Tongass National Forest, Federal Building, 648 Mission Street, Ketchikan, AK 99901.

FOR FURTHER INFORMATION CONTACT: Scott Fitzwilliams, Public Services Staff and Fee Coordinator, 907-747-4236.

SUPPLEMENTARY INFORMATION: The Federal Recreation Lands Enhancement Act (Title VII, Pub. L. 108-447) directed the Secretary of Agriculture to publish a six month advance notice in the Federal Register whenever new recreation fee areas are established. The intent of this notice is to give publics an opportunity to comment if they have concerns or questions about new fees.

The Tongass National Forest currently has two other wildlife viewing fees sites. These sites are often at capacity throughout their season. A business analysis of Fish Creek has shown that people desire having for of this sort of recreation experience on the Tongass National Forest. A market analysis indicates that the $5/10/20/75 per day/three-day/week/season is both reasonable and acceptable for this sort of unique recreation experience.

People wanting to purchase passes for Fish Creek can do so at the Forest Service office in Hyder or at Fish Creek. The Forest Service is also working to make passes available at local businesses in the communities of Hyder and Stewart.

Dated: January 3, 2006.
Forrest Cole,
Tongass National Forest Supervisor.

[FR Doc. 06-185 Filed 1-9-06; 8:45 am]

BILLING CODE 3410-14-M